COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds product(s) to the Procurement List that will be furnished by nonprofit agencies employing persons who are blind or have other severe disabilities, and deletes product(s) from the Procurement List previously furnished by such agencies.

DATES: Date added to and deleted from the Procurement List: May 02, 2021.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 11/27/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

6505-01-420-9275—Rehydration Salts, Oral, Lemon, 50g

6505-01-562-3894—Rehydration Salts, Oral, Modified, Lemon, 10g

6505-01-491-7131—Rehydration Salts, Oral, Modified, Mixed Berry, 10g

6505-01-491-8351—Rehydration Salts, Oral, Modified, Citrus, 21g

6505-01-525-8930—Rehydration Salts, Oral, Modified, Fruit Punch, 21g

6505-01-575-8540—Rehydration Salts, Oral, Orange, 12.5g

6505-01-575-8568—Rehydration Salts, Oral, Lime, 12.5g

6505-01-575-8578—Rehydration Salts, Oral, Pomegranate Acai Blueberry, 12.5g

Designated Source of Supply: Alphapointe, Kansas City, MO

Contracting Activity: DEFENSE LOGISTICS AGENCY, DLA TROOP SUPPORT

Deletions

On 2/26/2021, the Committee for Purchase From People Who Are Blind or Severely Disabled published notice of proposed deletions from the Procurement List. This notice is published pursuant to 41 U.S.C. 8503 (a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

8415-01-524-5957—Cover, PASGT Helmet, Universal Camouflage, XS/S

8415-01-524-6027—Cover, PASGT Helmet, Universal Camouflage, M/L

8415-01-524-6028—Cover, PASGT Helmet, Universal Camouflage, XL

Designated Source of Supply: Lions Services, Inc., Charlotte, NC; Industries of the Blind, Inc., Greensboro, NC; Mount Rogers Community Services Board, Wytheville, VA; Lions Volunteer Blind Industries, Inc., Morristown, TN

Contracting Activity: DLA TROOP SUPPORT, PHILADELPHIA, PA W6QK ACC-APG NATICK, NATICK, MA

NSN(s)—Product Name(s):

6645-01-421-6898—Clock, Wall, Slimline, Taupe, 12-3/4” Diameter, Quartz

6645-01-421-6901—Clock, Wall, Slimline, Stone Gray, 12 3/4” Quartz

6645-01-421-6906—Clock, Wall, Walnut, 16” Quartz

6645-01-456-6022—Clock, Wall, Slimline, Stone Gray, Custom Logo, 12 3/4” Quartz

6645-01-456-6023—Clock, Wall, Walnut, Custom Logo, 16” Quartz

6645-01-456-6024—Clock, Wall, Slimline, Taupe, Custom Logo, 12 3/4” Quartz

6645-01-491-9807—Clock, Wall, Atomic, Bronze, 12 3/4” Diameter

6645-01-491-9808—Clock, Wall, Atomic, Bronze, 9 1/4” Diameter

6645-01-491-9829—Clock, Wall, 12/24 Hour, Atomic, Bronze, 9 1/4” Diameter

6645-01-491-9831—Clock, Wall, Atomic, Black, Custom Logo, 9 1/4” Diameter

6645-01-492-0377—Clock, Wall, Atomic, Walnut, 16” Diameter

Designated Source of Supply: Chicago Lighthouse Industries, Chicago, IL

Contracting Activity: GSA/FAS ADMIN SVCS ACQUISITION BR(2, NEW YORK, NY

NSN(s)—Product Name(s):

8415-01-465-4629—Pants, Physical Fitness Uniform, Army, Black, Large/Regular

8415-01-465-4635—Pants, Physical Fitness Uniform, Army, Black, X-Large/Regular

8415-01-465-4636—Pants, Physical Fitness Uniform, Army, Black, XX-Large/Regular

8415-01-465-4638—Pants, Physical Fitness Uniform, Army, Black, XXX-Large/Regular

8415-01-465-4639—Pants, Physical Fitness Uniform, Army, Black, X-Small/Long

8415-01-465-4640—Pants, Physical Fitness Uniform, Army, Black, Small/Long

8415-01-465-4641—Pants, Physical Fitness Uniform, Army, Black, Medium/Long

8415-01-465-4645—Pants, Physical Fitness Uniform, Army, Black, Large/Long

8415-01-465-4647—Pants, Physical Fitness Uniform, Army, Black, X-Large/Long

8415-01-465-4648—Pants, Physical Fitness Uniform, Army, Black, XX-Large/Long

8415-01-465-4652—Pants, Physical Fitness Uniform, Army, Black, XXX-Large/Long

8415-01-465-4860—Pants, Physical Fitness Uniform, Army, Black, X-Small/Short

8415-01-465-4862—Pants, Physical Fitness Uniform, Army, Black, Small/Short

8415-01-465-4864—Pants, Physical Fitness Uniform, Army, Black, Medium/Short

8415-01-465-4865—Pants, Physical Fitness Uniform, Army, Black, Large/Short

8415-01-465-4866—Pants, Physical Fitness Uniform, Army, Black, X-Large/Short

8415-01-465-4867—Pants, Physical Fitness Uniform, Army, Black, XX-Large/Short

8415-01-465-4869—Pants, Physical Fitness Uniform, Army, Black, XXX-Large/Short

8415-01-465-4871—Pants, Physical Fitness Uniform, Army, Black, X-Small/Regular

8415-01-465-4872—Pants, Physical Fitness Uniform, Army, Black, Small/Regular

8415-01-465-4878—Pants, Physical Fitness Uniform, Army, Black, Medium/Regular

Designated Source of Supply: Alphapointe, Kansas City, MO; Georgia Industries for the Blind, Bainbridge, GA; Lions Services, Inc., Charlotte, NC; Industries of the Blind, Inc., Greensboro, NC; Lions Volunteer Blind Industries, Inc., Morristown, TN; San Antonio Lighthouse for the Blind, San Antonio, TX; LC Industries, Inc., Durham, NC; Asso. for the Blind and Visually Impaired-Goodwill Industries of Greater Rochester, Inc., Rochester, NY

Contracting Activity: DLA TROOP SUPPORT, PHILADELPHIA, PA

Michael R. Jurkowski,
Deputy Director, Business & PL Operations.

[FR Doc. 2021-06816 Filed 4-1-21; 8:45 am]

BILLING CODE 6353-01-P